DEPARTMENT OF DEFENSE

Office of the Secretary

[Docket ID: DoD-2023-OS-0122]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by April 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mr. Reginald Lucas, (571) 372-7574, whs.mc-alex.esd.mbx.dd-dod-information-collections@mail.mil.

SUPPLEMENTARY INFORMATION:

Title; Associated Form; and OMB Number: Defense Advisory Committee on Women in the Services (DACOWITS) Annual Installation Visit Focus Groups; 0704-DACW.

Type of Request: New.

Number of Respondents: 720.

Responses per Respondent: 1.

Annual Responses: 720.

Average Burden per Response: 90 minutes.

Annual Burden Hours: 1080.

Needs and Uses: The Defense Advisory Committee on Women in the Services (DACOWITS) provides independent advice and recommendations to the Secretary of Defense on matters and policies relating to the recruitment, retention, employment, integration, well-being, and treatment of women in the Armed Forces of the United States, via a comprehensive annual report. DACOWITS collects qualitative data from focus groups and interactions with Service members during installation visits. The focus groups will be conducted with Service members (both male and female; officer and enlisted) from each of the Military Services. The research and data gathered through focus group responses will be analyzed in order to provide the Committee with vital information and input needed to create, support, and provide justification and reasoning for their recommendations.

Affected Public: Individuals or Households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Reginald Lucas at whs.mc-alex.esd.mbx.dd-dod-information-collections@mail.mil.

Dated: March 12, 2024.
Aaron T. Siegel,
Alternate OSD Federal Register Liaison Officer, Department of Defense.

[FR Doc. 2024-05668 Filed 3-15-24; 8:45 am]

BILLING CODE 6001-FR-P